DEPARTMENT OF LABOR

Employment and Training Administration

[TA-W-53,459]

SPX, Lindberg Division, Watertown, WI; Notice of Termination of Investigation

Pursuant to section 221 of the Trade Act of 1974, as amended, an investigation was initiated on November 6, 2003 in response to a worker petition filed on behalf of workers at SPX, Lindberg Division, Watertown, Wisconsin.

The petitioning group of workers is covered by an earlier petition instituted on October 31, 2003 (TA-W-53,399) that is the subject of an ongoing investigation for which a determination has not yet been issued. Further investigation in this case would duplicate efforts and serve no purpose; therefore the investigation under this petition has been terminated.

Signed at Washington, DC this 14th day of November 2003.
Richard Church,
Certifying Officer, Division of Trade Adjustment Assistance.

[FR Doc. 03-31536 Filed 12-22-03; 8:45 am]

BILLING CODE 4510-30-P